DEPARTMENT OF JUSTICE

Drug Enforcement Administration

Manufacturer of Controlled Substances; Notice of Registration

By Notice dated January 27,2003, and published in the Federal Register on February 6, 2003, (68 FR 6185), OraSure Technologies, Inc., 1745 Eaton Avenue, Bethlehem, Pennsylvania 18018, made application by renewal to the Drug Enforcement Administration to be registered as a bulk manufacturer of the basic classes of controlled substances listed below:

Drug | Schedule
Alphamethadol (9605) | I
Benzoylecgonine (9180) | II
Morphine (9300) | II

The firm plans to bulk manufacture the listed controlled substances to be used in-house to manufacture other controlled substances.

No comments or objections have been received. DEA has considered the factors in Title 21, United States Code, section 823(a) and determined that the registration of OraSure Technologies, Inc. to manufacture the listed controlled substances is consistent with the public interest at this time. DEA has investigated OraSure Technologies, Inc. to ensure that the company's registration is consistent with the public interest. This investigation has included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic classes of controlled substances listed above is granted.

Dated: June 4, 2003.
Laura M. Nagel,
Deputy Assistant Administrator, Office of Diversion Control, Drug Enforcement Administration.

[FR Doc. 03-15198 Filed 6-16-03; 8:45 am]

BILLING CODE 4410-09-M